ENVIRONMENTAL PROTECTION AGENCY

[ER-FRL-6639-8]

Environmental Impact Statements; Notice of Availability

Responsible Agency: Office of Federal Activities, General Information (202) 564-7167 or http://www.epa.gov/compliance/nepa/.

Weekly receipt of Environmental Impact Statements

Filed April 21, 2003, through April 25, 2003.

Pursuant to 40 CFR 1506.9.

EIS No. 030183, Final EIS, AFS, UT, Uinta National Forest Revised Land and Resource Management Plan, Implementation, Juab, Sanpete, Tooele, Utah and Wasatch Counties, UT, Wait Period Ends: June 2, 2003, Contact: Marlene DePietro (801) 342-5161.

EIS No. 030184, Draft EIS, AFS, AZ, Cross-County Travel by Off-Highway Vehicle Project, To Restrict Motorized, Wheeled Cross-County Travel, Apache-Sitegreaves, Conino, Kaibab, Prescott and Tonto National Forests, AZ, Comment Period Ends: June 16, 2003, Contact: Jim Anderson (928) 333-6370. This document is available on the Internet at: http://(www.fs.fed.us/r3/ohv).

EIS No. 030185, Final Supplement, AFS, ID, Salmon Wild and Scenic River Management Plan, Timeline Change From December 31, 2002 to December 31, 2005 and Clarification of Economic Impacts on the Campes, Stub Creek, Arctic Creek and Smith Gulch Creek, Salmon National Forest, Salmon County, ID, Wait Period Ends: June 2, 2003, Contact: Patricia Pearson (208) 756-5148.

EIS No. 030186, Final EIS, AFS, WI, Northwest Howell Project, Timber Harvest, Wildlife Openings Maintenance, Aspen and Jack Pine Types Regeneration, Hardwood and Conifer Tree Seedlings Protection, Lakes Habitat Improvements and Transportation System Development, Eagle-Florence District, Chequameg-Nicolet National Forest, Forest and Florence Counties, WI, Wait Period Ends: June 2, 2003, Contact: Shirley Frank (715) 528-4464 Ext. 27.

EIS No. 030187, Draft EIS, FHW, MO, Missouri River Corridor, Widening and Improvements a New Four Lane Expressway, Corridor consist of Four Segments: Front Street, Chouteau Trafficway, South Riverfront Expressway (SRE) and Little Blue Expressway (LBE), Jackson and Clay Counties, MO, Comment Period Ends: June 16, 2003, Contact: Allen Masuda (573) 636-7104.

EIS No. 030188, Final EIS, SFW, CA, Natomas Basin Habitat Conservation Plan, Issuance of Incidental Take Permit and the Adoption of an Implementing Agreement or Agreements, Natomas Basin, Sacramento and Sutter Counties, CA, Wait Period Ends: June 2, 2003, Contact: Cay Goude (916) 414-6600.

EIS No. 030189, Draft EIS, BLM, WY, Desolation Flats Natural Gas Field Development Project, Drilling Additional Development Wells, Carbon and Sweetwater County, WY, Comment Period Ends: July 1, 2003, Contact: John Spehar (307) 328-4264. This document is available on the Internet at: http://www.blm.gov/nepa.

EIS No. 030190, Final EIS, JUS, CA, Juvenile Justice Facility and East County Hall of Justice, Proposal to Evaluate two Projects that could be Constructed at one (Combined Siting) or (Separate Siting), Alamenda County, CA, Wait Period Ends: June 2, 2003, Contact: Paul Delameter (202) 514-7903.

EIS No. 030191, Draft EIS, FHW, LA, I-49 South Lafayette Regional Airport to LA-88 Route US-90 Project, Upgrading Existing US-90 from the Lafayette Regional Airport to LA-88, Iberia, Lafayette and St. Martin Parishes, LA, Comment Period Ends: June 16, 2003, Contact: William C. Farr (225) 757-7615.

EIS No. 030192, Draft EIS, COE, CA, Napa River Salt Marsh Restoration Project, Proposing a Salinity Reduction and Habitat Restoration for Napa River Unit, San Pablo Bay, Napa and Solano Counties, CA, Comment Period Ends: June 16, 2003, Contact: Shirin Tolle (415) 977-8467.

Amended Notices

EIS No. 030078, Draft EIS, NPS, AK, Denali National Park and Preserve Backcountry Management Plan and General Management Plan Amendment, Implementation, AK, Comment Period Ends: May 30, 2003, Contact: Mike Tranel (907) 257-2562. Revision of FR Notice Published on 3/7/2003: CEQ Comment Period Ending on 5/7/2003 has been Extended to 5/30/2003.

EIS No. 030115, Draft EIS, FRC, CA, Pit 3, 4, 5 Hydroelectric Project, (FERC No. 233-081), Application for New License, Pit River, Shasta-Trinity National Forest, Shasta County, CA Comment Period Ends: May 21, 2003, Contact: John Mudre (202) 502-8902. Revision of FR Notice Published on 3/21/2003: CEQ Comment Period Ending 5/5/2003 has been Corrected to 05/21/2003.

EIS No. 030116, Draft EIS, COE, CA, Lower Cache Creek Flood Damage Reduction Project, Implementation, City of Woodland and Vicinity, Yolo County, CA, Comment Period Ends: June 4, 2003, Contact: Patti Johnson (916) 557-6611. Revision of FR Notice Published on 3/21/2003: CEQ Comment Period Ending 5/05/2003 has been Extended to 6/4/2003.

EIS No. 030141, Draft EIS, COE, TX, Gulf Intracoastal Waterway in the Laguna Madre, Maintenance Dredging from the JFK Causeway to the Old Queen Isabella Causeway, Nueces, Kleberg, Kenedy, Willacy and Cameron County, TX, Comment Period Ends: June 19, 2003, Contact: Dr. Terry Roberts (409) 766-3035. Revision of FR Notice Published on 4/4/2003: CEQ Comment Period Ending 5/19/2003 has been Extended to 6/19/2003.

Dated: April 30, 2003.
Joseph C. Montgomery,
Director, NEPA Compliance Division, Office of Federal Activities.

[FR Doc. 03-10897 Filed 5-1-03; 8:45 am]

BILLING CODE 6560-60-P